DEPARTMENT OF HOUSING AND URBAN DEVELOPMENT

[Docket No. FR-7075-N-16]

60-Day Notice of Proposed Information Collection: Data Collection for the HUD Secretary's Awards Including The Secretary's Award for Public-Philanthropic Partnerships, The Secretary's Awards for Healthy Homes, The Secretary's Award for Excellence in Historic Preservation, The Secretary's Award for Planning, The Secretary's Housing Design Awards, The Secretary's Award for Tribal Housing Impact, and The HUD Innovation in Affordable Housing Student Design and Planning Competition; OMB Control No.: 2528-0324

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 17, 2024.

ADDRESSES: Interested persons are invited to submit comments regarding this proposal.

Written comments and recommendations for the proposed information collection can be submitted within 60 days of publication of this notice to www.reginfo.gov/public/do/PRAMain. Find this particular information collection by selecting, “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email; Anna.P.Guido@hud.gov; telephone (202) 402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Data Collection for the HUD Secretary's Awards including The Secretary's Award for Public-Philanthropic Partnerships, The Secretary's Awards for Healthy Homes, The Secretary's Award for Excellence in Historic Preservation, The Secretary's Award for Planning, The Secretary's Housing Design Awards, The Secretary's Award for Tribal Housing Impact, and The HUD Innovation in Affordable Housing Student Design and Planning Competition.

OMB Approval Number: 2528-0324.

Type of Request: Revision of a currently approved collection.

Form Number: N/A.

Description of the need for the information and proposed use: HUD seeks to collect information that will be used to implement the following HUD Secretary's Awards: (1) the Secretary's Award for Public-Philanthropic Partnerships, (2) the Secretary's Awards for Healthy Homes, (3) the Secretary's Award for Excellence in Historic Preservation, (4) the Secretary's Planning Award, (5) the Secretary's Housing Design Awards, (6) The Secretary's Award for Tribal Housing Impact, and (7) the HUD Innovation in Affordable Housing Student Design and Planning Competition.

On an annual basis, HUD accepts nominations for the above listed awards. A template application form for nominations streamlines information collection across these six award programs. Each award recognizes awardees for their innovation and commitment to raising industry standards and increasing the quality of life for low- and moderate-income households. Below is a brief description of each of the six award programs.

The HUD Secretary's Award for Public-Philanthropic Partnerships

The Public-Philanthropic Partnerships Award recognizes excellence in partnerships that have transformed the relationships between the public and philanthropic sectors and led to measurable benefits in housing and community development for low- and moderate-income families. By strengthening the connection between HUD and philanthropy, these awards highlight the power of collective impact that can be achieved through public-philanthropic partnerships between government entities and foundations.

The HUD Secretary's Awards for Healthy Homes

The Healthy Homes Awards promote the innovation and partnerships needed to create healthy homes and communities for low-income residents by working across the health, environment, and housing sectors.

HUD Secretary's Award for Excellence in Historic Preservation

The Secretary's Award for Excellence in Historic Preservation recognizes developers, organizations, and agencies for their success in advancing the goals of historic preservation while providing affordable housing and/or expanded economic opportunities for low-and moderate-income families and individuals.

HUD Secretary's Planning Award

The Secretary's Planning Award honors excellence in community planning that has led to measurable benefits in economic development, employment, education, or housing choice and mobility for low- and moderate-income residents. The award stresses that communities demonstrate how integrative planning led to tangible results, such as expanding the supply of available affordable housing, employment opportunities connected by effective transportation systems, or a host of community-empowering strategies. The award recognizes the planning discipline as an important partner in how creative housing, economic development, and private investments are used in—or in tandem with—a comprehensive community development plan.

HUD Secretary's Housing Design Awards

The Secretary's Housing Design Awards recognize excellence in affordable housing design, community-based design, participatory design, and accessibility. These awards demonstrate that design matters and provide examples of important benchmarks in the housing industry.

HUD Secretary's Award for Tribal Housing Impact

The Secretary's Tribal Housing Impact Award celebrates excellence and innovation in addressing housing and community development needs within Native American communities. By honoring Tribes and Tribally Designated Housing Entities (TDHES) significant housing and community development related achievements, HUD is fostering sustainable and vibrant Tribal communities for generations to come.

HUD Innovation in Affordable Housing Student Design and Planning Competition

The Innovation in Affordable Housing Student Design and Planning Competition advances design and production of livable and sustainable housing for low- and moderate-income people. This competition invites teams of graduate students from multiple disciplines to submit plans in response to a real-world affordable housing design issue. The competition encourages research and innovation in affordable housing, increases practitioner capacity to produce more livable and sustainable housing for low- and moderate-income communities through best practices in building design and construction, and fosters cross-cutting teamwork within the design and community development process.

Estimated Number of Respondents: 310.

Estimated Time per Response: 3 hours.

Frequency of Response: Once annually.

Estimated Total Annual Burden Hours: 930 hours.

Estimated Total Annual Cost: The cost to respondents to complete a nomination is estimated at the Social and Human Service Assistant median hourly wage rate ($18.52) for 3 hours of work. The total estimated cost is $17,223.60.

Respondent's Obligation: Voluntary.

Legal Authority: The authority to collect information is in Sections 501 and 502 of the Housing and Urban Development Act of 1970 (Pub. L. 91-609) (12 U.S.C. 1701z-1; 1701z-2(d) and (g)).

Respondents (i.e., affected public): Organizations.

Respondent | Occupation | SOC code | Median hourly wage rate
Secretary's Award Nominee | Social and Human Service Assistant | 21-1093 | $18.52
Source: Bureau of Labor Statistics, Occupational Employment Statistics (Accessed November 2023, Data Released April 2023), https://www.bls.gov/oes/current/oes211093.htm.

Information collection | Number of respondents | Frequency of response | Responses per annum | Burden hour per response | Annual burden hours | Hourly cost per response | Annual cost
HUD Secretary's Awards for Public-Philanthropic Partnerships | 50 | 1 | 1 | 3 | 150 | $18.52 | $2,778.00
HUD Secretary's Awards for Healthy Homes | 30 | 1 | 1 | 3 | 90 | 18.52 | 1,666.80
HUD Secretary's Awards for Excellence in Historic Preservation | 50 | 1 | 1 | 3 | 150 | 18.52 | 2,778.00
HUD Secretary's Planning Awards | 50 | 1 | 1 | 3 | 150 | 18.52 | 2,778.00
HUD Secretary's Housing Design Awards | 50 | 1 | 1 | 3 | 150 | 18.52 | 2,778.00
HUD Secretary's Awards for Tribal Housing Impact | 30 | 1 | 1 | 3 | 90 | 18.52 | 1,666.80
Innovation in Affordable Housing Student Design and Planning Competition | 50 | 1 | 1 | 3 | 150 | 18.52 | 2,778.00
Total | 310 |  |  |  | 930 |  | 17,233.60

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Todd M. Richardson,
General Deputy Assistant Secretary for Policy, Development and Research.

[FR Doc. 2023-27701 Filed 12-15-23; 8:45 am]

BILLING CODE 4210-67-P